DEPARTMENT OF ENERGY

Federal Energy Regulation Commission

[Docket No. CP15-518-000]

Freeport LNG Development, L.P., FLNG Liquefaction, LLC., FLNG Liquefaction 2, LLC. and FLNG Liquefaction 3, LLC.; Notice of Application To Amend Aurhtorization Under Section 3 of the Natural Gas Act

Take notice that on June 15, 2015 Freeport LNG Development, L.P., FLNG Liquefaction, LLC, FLNG Liquefaction 2, LLC, and FLNG Liquefaction 3, LLC (collectively Freeport LNG), 333 Clay Street, Suite 5050, Houston, TX 77002, filed in Docket No. CP15-518-000, an application pursuant to section 3(a) of the Natural Gas Act (NGA), and Part 153 of the Commission's Regulations, to amend the authorizations granted on July 30, 2014 in Docket Nos. CP12-509-000 and CP12-29-000. Freeport LNG seeks authorization from the Commission to increase the total liquefied natural gas production capacity of its Liquefaction Project from the currently authorized 1.8 billion cubic feet (Bcf) per day (657 Bcf per year) to 2.14 Bcf per day (782 Bcf per year). No new facilities are proposed, all as more full set forth in the application which is on file with the Commission and open to public inspection.

This filing is accessible on-line at http://www.ferc.gov, using the “eLibrary” link. Enter the docket number, excluding the last three digits, in the docket number filed to access the document. It is also available for review in the Commission's Public Reference Room in Washington, DC. For assistance, please contact FERC Online Support at FERCOnlineSupport@ferc.gov, or call toll-free at (866) 208-3676, or for TTY, contact (202) 502-8659.

Any questions regarding the application should be directed to John B. Tobola, Freeport LNG Development, L.P., 333 Clay Street, Suite 5050, Houston, TX 77002, (713) 980-2888; or Lisa M. Tonery, Norton Rose Fulbright US LLP, 666 Fifth Avenue, New York, NY 10103, (212) 318-3009, lisa.tonery@nortonrosefulbright.com.

Pursuant to section 157.9 of the Commission's rules (18 CFR 157.9), within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this Project. First, any person wishing to obtain legal status by becoming a party to the proceeding for this project should, on or before the comment date stated below, file with the Federal Energy Regulatory Commission, 888 First Street NE., Washington, DC 20426, a motion to intervene in accordance with the requirement of the Commission's Rules of Practice and Procedure (18 CFR 385.214 or 385.211) A person obtaining party status will be placed on the service list maintained by the Secretary of the Commission, and will receive copies of all documents filed by the applicant and by all other parties. A party must submit filing made it the Commission by mail, hand delivery, or internet, in accordance with Rule 2001 of the Commission's Rules of Practice and Procedure (18 CFR 385.2001). A copy must be served on every other party in the proceeding. Only parties to the proceeding may ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that person filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

If the Commission decides to set the application for a formal hearing before an Administrative Law Judge, the Commission will issue another notice describing that process. At the end of the Commission's review process, a final Commission order approving or denying the requested authorization will be issued.

Comment Date: 5:00 p.m. Eastern Daylight Savings Time July 15, 2015.

Dated: June 24, 2015.
Kimberly D. Bose,
Secretary.

[FR Doc. 2015-16309 Filed 7-1-15; 8:45 am]

BILLING CODE 6717-01-P